DEPARTMENT OF TRANSPORTATION

Federal Highway Administration

Environmental Assessment: Jessamine County and Madison County, KY

AGENCY: Federal Highway Administration (FHWA), DOT.

ACTION: Notice of Intent (NOI).

SUMMARY: The Federal Highway Administration (FHWA) is issuing this notice to advise the public that FHWA will prepare an Environmental Assessment (EA) to determine the need for a Finding of No Significant Impact (FONSI) or an Environmental Impact Statement (EIS)/Record of Decision (ROD) for a new connector between US 27 in Jessamine County, KY and 1-75 in Madison County, KY. This project will adhere to the requirements of Section 6002 of SAFETEA-LU. The purpose of the 1-75 Connector project is to improve regional access and east-west connectivity. Comments on the scope of the EA for the proposed project should be forwarded no later than May 1, 2012.

FOR FURTHER INFORMATION CONTACT: Federal Highway Administration, Kentucky Division: Mr. Ian Chidister, Environmental Specialist, 330 West Broadway, Frankfort, KY 40601. Ian may be reached by phone at 502-223-6730, or by email at Ian.Chidister@dot.gov. For additional information, contact Ananias Calvin, P.E., Project Manager for the Kentucky Transportation Cabinet, at (859) 246- 2355 or via email at Ananias.Calvin@ky.gov.

SUPPLEMENTARY INFORMATION: The FHWA, in cooperation with the Kentucky Transportation Cabinet (KYTC), will prepare an EA to determine the need for a Finding of No Significant Impact (FONSI) or an Environmental Impact Statement (EIS)/Record of Decision (ROD) for a new connector between US 27 in Jessamine County, KY and 1-75 in Madison County, KY. The study area extends from the proposed Eastern Nicholasville Bypass (US 27) to 1-75 near the KY 627 Interchange, including a new crossing at the Kentucky River. The nearest alternate connection between the two routes is Man O' War Boulevard in Lexington, KY. KY 169 also provides a rural route between Nicholasville, KY and Richmond, KY; however, the only Kentucky River crossing on this route is provided by the Valley View Ferry, an automobile-only ferry service that provides cross river service during limited service hours.

The objective of this study is to identify alternative corridors for the 1-75 Jessamine County Connector while considering environmental, social, engineering, costs and other factors in the project vicinity. This study will conform to Kentucky's environmental guidance and the SAFETEA-LU Section 6002 requirements.

Environmental Issues: Possible environmental impacts include effects to historical properties or farmland; increased noise; viewshed impacts; impacts to water resources, flood plains, prime farmland, sensitive biological species and their habitat; land use compatibility impacts; community impacts; and impacts to agricultural lands.

Alternatives: The EA will consider alternatives that include the No-Build (Do Nothing) Alternative as well as a range of build alternatives on new alignment.

Public and Agency Participation: FHWA encourages broad participation in the EA process and review of the resulting environmental documents. Comments, questions, and suggestions related to the project and potential socioeconomic and environmental concerns are invited from all interested agencies and the public at large to ensure that the full range of issues related to the proposed action and all reasonable alternatives are considered and all significant issues are identified. These comments, questions, and suggestions should be forwarded to either phone number or email address listed above.

Early Coordination Letters will be sent to the appropriate Federal, State and local agencies in the Spring of 2012 describing the project, following a project kick-off coordinated through a media news release. An invitation letter will be sent to potential Cooperating Agencies, Participating Agencies, and Section 106 Consulting Parties inviting the agencies to officially take part in the study, encouraging agency comments and suggestions concerning the proposed project, and further defining the roles of Agencies. The draft purpose and need for the project will be developed and preliminary alternatives identified. The agencies, stakeholders, and public will have an opportunity to review and comment on this information. The purpose and need and preliminary alternatives will be available for public review during a Citizens' Advisory Committee Meeting and Public Workshop. Public notice will be given as to the time and place of the meetings. Agencies and the public will also have an opportunity to comment on various study findings, including: (1) Definition of purpose and need; (2) establishment of screening criteria; (3) screening of initial alternatives; (4) selection of final alternatives; and (5) for the review of environmental documentation. Citizens' Advisory Committee meetings and public meetings will be conducted regularly as the project moves forward to secure input from key stakeholders as decisions are made.

Notices of availability for the purpose and need and identification of preliminary alternatives, evaluation and screening of preliminary alternatives, and identification of final alternatives will be provided through direct mail, email, the project Web site available at www.I-75connector.com, and other media. Notification also will be sent to Federal, State, local agencies, persons and organizations that submit comments or questions. Precise schedules and locations for public meetings will be announced in the local news media and the project Web site. Interested individuals and organizations may request to be included on the mailing list for distribution of meeting announcements and associated information.

Other Approvals for Federal Permits: The following approvals for federal permits are anticipated to be required: the Navigational Permit Application from the US Coast Guard and the Section 404 Permit from the Army Corps of Engineers. Additionally, a Section 401 Permit may be required from the Kentucky Energy and Environment Cabinet.

(Catalog of Federal Domestic Assistance Program No. 20.205, Highway Planning and Construction. The regulations implementing Executive Order 12372 regarding intergovernmental consultation on Federal programs and activities apply to the program)

Authority: 23 U.S.C. 315; 23 CFR 771.123; 49 CFR 1.48.

Issued on: March 12, 2012.
Jose Sepulveda,
Division Administrator, Federal Highway Administration, Frankfort, Kentucky.

[FR Doc. 2012-6651 Filed 3-19-12; 8:45 am]

BILLING CODE 4910-22-M